DEPARTMENT OF TRANSPORTATION

Federal Aviation Administration

14 CFR Part 39

[Docket No. FAA-2021-0195; Project Identifier MCAI-2020-00262-R]

RIN 2120-AA64

Airworthiness Directives; Airbus Helicopters

AGENCY: Federal Aviation Administration (FAA), DOT.

ACTION: Notice of proposed rulemaking (NPRM).

SUMMARY: The FAA proposes to supersede Airworthiness Directive (AD) 2014-11-02 for Airbus Helicopters Model SA-365N, SA-365N1, AS-365N2, and AS 365 N3 helicopters. AD 2014-11-02 requires repetitively inspecting frame number (No.) 9 for a crack. Since the FAA issued AD 2014-11-02, Airbus Helicopters developed a modification that would provide an optional terminating action for the repetitive inspections required by AD 2014-11-02. This proposed AD would retain the requirements of AD 2014-11-02, provide an optional terminating action for the repetitive inspections, and reduce the applicability by excluding certain post-modified helicopters. The actions of this proposed AD are intended to address an unsafe condition on these products.

DATES: The FAA must receive comments on this proposed AD by June 7, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2021-0195; or in person at Docket Operations between 9 a.m. and 5 p.m., Monday through Friday, except Federal holidays. The AD docket contains this proposed AD, the European Union Aviation Safety Agency (EASA) AD, any comments received and other information. The street address for Docket Operations is listed above. Comments will be available in the AD docket shortly after receipt.

For service information identified in this proposed rule, contact Airbus Helicopters, 2701 N. Forum Drive, Grand Prairie, TX 75052; telephone (972) 641-0000 or (800) 232-0323; fax (972) 641-3775; or at https://www.airbus.com/helicopters/services/technical-support.html. You may view this referenced service information at the FAA, Office of the Regional Counsel, Southwest Region, 10101 Hillwood Pkwy., Room 6N-321, Fort Worth, TX 76177.

FOR FURTHER INFORMATION CONTACT: Matt Fuller, AD Program Manager, General Aviation & Rotorcraft Unit, Airworthiness Products Section, Operational Safety Branch, FAA, 10101 Hillwood Pkwy., Fort Worth, TX 76177; telephone (817) 222-5110; email matthew.fuller@faa.gov.

SUPPLEMENTARY INFORMATION:

Comments Invited

The FAA invites you to send any written relevant data, views, or arguments about this proposal. Send your comments to an address listed under ADDRESSES. Include “Docket No. FAA-2021-0195; Project Identifier MCAI-2020-00262-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Matt Fuller, AD Program Manager, General Aviation & Rotorcraft Unit, Airworthiness Products Section, Operational Safety Branch, FAA, 10101 Hillwood Pkwy., Fort Worth, TX 76177; telephone (817) 222-5110; email matthew.fuller@faa.gov. Any commentary that the FAA receives which is not specifically designated as CBI will be placed in the public docket for this rulemaking.

Discussion

The FAA issued AD 2014-11-02, Amendment 39-17852 (79 FR 33050, June 10, 2014) (AD 2014-11-02), for Airbus Helicopters (previously Eurocopter France) Model SA-365N, SA-365N1, AS-365N2, and AS 365 N3 helicopters. AD 2014-11-02 requires, for helicopters that have a No. 9 frame that has had any repair or alteration made, within 10 hours time-in-service (TIS) and thereafter at intervals not to exceed 110 hours TIS, inspections of the left-hand (LH) and right-hand (RH) frame No. 9 for a crack in certain areas using a 10X or higher power magnifying glass. For all other helicopters, the inspection is required within 110 hours TIS and thereafter in intervals not to exceed 110 hours TIS. If there is a crack, AD 2014-11-02 requires repairing the frame before further flight.

AD 2014-11-02 was prompted by EASA AD 2012-0108-E, dated June 15, 2012 (EASA AD 2012-0108-E), issued by EASA, which is the Technical Agent for the Member States of the European Union. EASA advises that a crack was discovered during the “T” inspection of an AS365 helicopter. The crack started at a rivet hole of a doubler that was installed on the frame No. 9 in accordance with Eurocopter Alert Service Bulletin No. 53.00.42, dated January 31, 2001. EASA further states that structural alteration of frame No. 9 by modifications or repairs can result in fatigue crack initiation under normal operational loads. According to EASA, this condition, if not corrected, could lead to crack propagation and failure of frame No. 9, which would adversely affect the structural integrity of the helicopter. For these reasons, EASA AD 2012-0108-E requires repetitive inspections of frame No. 9 for a crack in the area of the doubler or any repair performed in the area of the latch support and stretcher support.

Actions Since AD 2014-11-02 Was Issued

Since the FAA issued AD 2014-11-02, Airbus Helicopters introduced an optional modification (MOD) that would provide terminating action for the repetitive inspections. Consequently, EASA issued AD 2012-0108R1, dated September 19, 2019 (EASA AD 2012-0108R1), to supersede EASA AD 2012-0108-E. EASA AD 2012-0108R1 retains the requirements in EASA AD 2012-0108-E and introduces the installation of an optional MOD that calls for replacing the upper section of frame No. 9 with a reinforced frame.

FAA's Determination

These helicopters have been approved by EASA and are approved for operation in the United States. Pursuant to the FAA's bilateral agreement with the European Union, EASA has notified the FAA of the unsafe condition described in its AD. The FAA is proposing this AD after evaluating all known relevant information and determining that an unsafe condition is likely to exist or develop on other helicopters of these same type designs.

Differences Between This Proposed AD and the EASA AD

EASA AD 2012-0108R1 requires contacting Airbus Helicopters for repair instructions if there is a crack, and the proposed AD does not. EASA AD 2012-0108R1 applies to Airbus Helicopters Model 365-series helicopters with a frame No. 9 on which certain doublers or repairs have been accomplished, whereas this proposed AD would apply to those model helicopters regardless of if those doublers or repairs have been accomplished.

Related Service Information Under 1 CFR Part 51

Airbus Helicopters has co-published as one document Emergency Alert Service Bulletin (EASB) No. 05.00.63, Revision 2, dated December 20, 2018 (EASB 05.00.63 Rev 2), for Model AS365-series helicopters and EASB No. 05.00.30, Revision 2, dated December 20, 2018 (EASB 05.00.30 Rev 2), for non-FAA type certificated Model AS565-series helicopters. EASB 05.00.63 Rev 2 would be incorporated by reference in this proposed AD; EASB 05.00.30 Rev 2 would not.

EASB 05.00.63 Rev 2 applies to helicopters with a frame No. 9 that has not been modified by MOD 07 53C17, 07 53D21, 07 53D22, or 07 53D02, and that has had doublers installed or repairs performed in accordance with certain service instructions. EASB 05.00.63 Rev 2 describes procedures for inspecting the frame No. 9 for a crack and specifies contacting Airbus Helicopters for further procedures if there is a crack.

This service information is reasonably available because the interested parties have access to it through their normal course of business or by the means identified in the ADDRESSES section.

Other Related Service Information

Airbus Helicopter has also issued Service Bulletin No. AS365-53.00.57, Revision 0, dated December 20, 2018 (SB AS365-53.00.57), for Model AS365-series helicopters. SB AS365-53.00.57 specifies replacing the upper section of the No. 9 frame with a reinforced version as an option to terminate the visual inspections specified in EASB 05.00.63 Rev 2.

The FAA also reviewed Eurocopter EASB No. 05.00.63, Revision 1, dated June 18, 2012 (EASB 05.00.63 Rev 1). EASB 05.00.63 Rev 1 specifies the same procedures as EASB 05.00.63 Rev 2; however, EASB 05.00.63 Rev 2 excludes helicopters with certain MODs installed from its effectivity.

Proposed AD Requirements

This proposed AD would continue to require, for helicopters that have a No. 9 frame that has had any repair or alteration made, within 10 hours TIS after the effective date of this AD and every 110 hours TIS thereafter, inspecting the LH and RH frame No. 9 for a crack in the areas of the latch support and stretcher support with a 10X or higher power magnifying glass. For all other helicopters, this proposed AD would require this inspection within 110 hours TIS after the effective date of this AD and thereafter at intervals not to exceed 110 hours TIS. If there is a crack, the proposed AD would also continue to require, before further flight, repairing the crack. This proposed AD would also provide an optional terminating action for the repetitive inspections that would consists of installing Eurocopter MOD 53C17 or MOD 53D02, or Airbus Helicopters MOD 07 53D21 or MOD 07 53D22, as applicable to your helicopter.

Costs of Compliance

The FAA estimates that this proposed AD would affect 33 helicopters of U.S. Registry. The FAA estimates that operators may incur the following costs in order to comply with this AD. At an average labor rate of $85 per hour, inspecting the LH and RH frame No. 9 would require about 3 work-hours, for a cost per helicopter of $255 and a total cost to U.S. operators of $8,415 per inspection cycle. Repairing a cracked frame No. 9 would require about 20 work-hours, and required parts would cost about $15,000, for a cost per helicopter of $16,700.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2014-11-02, Amendment 39-17852 (79 FR 33050, June 10, 2014); and

b. Adding the following new AD:

Airbus Helicopters: Docket No. FAA-2021-0195; Project Identifier MCAI-2020-00262-R.

(a) Applicability

This airworthiness directive (AD) applies to Airbus Helicopters Model SA-365N, SA-365N1, AS-365N2, and AS-365-N3 helicopters, certificated in any category, except helicopters with Eurocopter modification (MOD) 53C17 or MOD 53D02, or Airbus Helicopters MOD 07 53D21 or MOD 07 53D22, installed.

(b) Unsafe Condition

This AD defines the unsafe condition as a crack in frame number (No.) 9, which if not detected and corrected, could result in failure of frame No. 9, loss of structural integrity, and subsequent loss of control of the helicopter.

(c) Affected ADs

This AD replaces AD 2014-11-02, Amendment 39-17852 (79 FR 33050, June 10, 2014).

(d) Comments Due Date

The FAA must receive comments by June 7, 2021.

(e) Compliance

You are responsible for performing each action required by this AD within the specified compliance time unless it has already been accomplished prior to that time.

(f) Required Actions

(1) For helicopters that have any repair or alteration to the frame No. 9, within 10 hours time-in-service (TIS) after the effective date of this AD and thereafter at intervals not to exceed 110 hours TIS, using a 10X or higher power magnifying glass, inspect the left-hand (LH) and right-hand (RH) frame No. 9 for a crack in the area of the latch support and stretcher support, as depicted in Figure 1 of Airbus Helicopters Emergency Alert Service Bulletin No. 05.00.63, Revision 2, dated December 20, 2018 (EASB 05.00.63).

(2) For all other helicopters, within 110 hours TIS after the effective date of this AD and thereafter at intervals not to exceed 110 hours TIS, perform the inspection in paragraph (f)(1) of this AD.

(3) If there is a crack, before further flight, repair the frame No. 9. Repairing a frame is not terminating action for the repetitive inspections required by paragraphs (f)(1) and (2) of this AD.

(4) As an optional terminating action for the repetitive inspections required by paragraphs (f)(1) and (2) of this AD, replace the upper section of frame No. 9 with a reinforced frame, Eurocopter MOD 53C17 or MOD 53D02, or Airbus Helicopters MOD 07 53D21 or MOD 07 53D22.

(g) Special Flight Permits

Special flight permits to a repair facility may be issued provided that the flight does not exceed 10 hours TIS, any crack does not exceed a maximum crack length of 80 mm, and no passengers are onboard.

(h) Credit for Previous Actions

You may take credit for the actions required by paragraphs (f)(1) and (2) of this AD if you performed them before the effective date of this AD using Eurocopter Emergency Alert Service Bulletin No. 05.00.63, Revision 1, dated June 18, 2012.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch office, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Matthew Fuller, AD Program Manager, General Aviation & Rotorcraft Unit, Airworthiness Products Section, Operational Safety Branch, FAA, 10101 Hillwood Pkwy., Fort Worth, TX 76177; telephone (817) 222-5110; email matthew.fuller@faa.gov.

(2) For service information identified in this AD, contact Airbus Helicopters, 2701 N Forum Drive, Grand Prairie, TX 75052; telephone (972) 641-0000 or (800) 232-0323; fax (972) 641-3775; or at https://www.airbus.com/helicopters/services/technical-support.html. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2012-0108R1, dated September 19, 2019. You may view the EASA AD on the internet at https://www.regulations.gov in Docket No. FAA-2021-0195.

(k) Subject

Joint Aircraft Service Component (JASC) Code: 5300: Fuselage Structure.

Issued on March 19, 2021.
Lance T. Gant,
Director, Compliance & Airworthiness Division, Aircraft Certification Service.

[FR Doc. 2021-08183 Filed 4-21-21; 8:45 am]

BILLING CODE 4910-13-P